DEPARTMENT OF ENERGY

Energy Employees Occupational Illness Compensation Program Act of 2000; Revision to the List of Covered Facilities

AGENCY: Department of Energy.

ACTION: Notice of revision of listing of covered facilities.

SUMMARY: The Department of Energy (“Department” or “DOE”) periodically publishes revisions to the list of facilities covered under the Energy Employees Occupational Illness Compensation Program Act of 2000, as amended (“EEOICPA” or “Act”). This Notice amends the list of covered facilities by correcting the facility description and the covered period for Jessop Steel Company in Washington, Pennsylvania, and adding the designation of Duriron Company in Dayton, Ohio (“Duriron”) as an atomic weapons employer (“AWE”) facility for purposes of EEOICPA.

DATES: Effective February 17, 2016.

ADDRESSES: The Department welcomes comments on this Notice. Comments should be addressed to: Patricia R. Worthington, Ph.D., Director, Office of Health and Safety (AU-10), U.S. Department of Energy, 1000 Independence Avenue SW., Washington, DC 20585.

FOR FURTHER INFORMATION CONTACT: Patricia R. Worthington, Ph.D., Director, Office of Health and Safety (AU-10), (301) 903-5926.

SUPPLEMENTARY INFORMATION: This Notice amends the list of covered facilities by correcting the facility description and the covered period for Jessop Steel Company in Washington, Pennsylvania, and adding the designation of Duriron in Dayton, Ohio, as an AWE facility for purposes of EEOICPA. Previous lists or revisions were published by DOE on July 16, 2015 (80 FR 42094); February 11, 2013 (78 FR 9678), February 6, 2012 (77 FR 5781); May 26, 2011 (76 FR 30695); August 3, 2010 (75 FR 45608); April 9, 2009 (74 FR 16191); June 28, 2007 (72 FR 35448); November 30, 2005 (70 FR 71815); August 23, 2004 (69 FR 51825); July 21, 2003 (68 FR 43095); December 27, 2002 (67 FR 79068); June 11, 2001 (66 FR 31218); and January 17, 2001 (66 FR 4003).

Purpose

EEOICPA establishes a program to provide compensation to certain employees who develop illnesses as a result of their employment with DOE and its predecessor agencies, as well as employees of certain of its contractors, subcontractors, beryllium vendors and AWEs. Section 7384l(4) of EEOICPA, codified at 42 United States Code, defines an AWE as “an entity, other than the United States, that—(A) processed or produced, for use by the United States, material that emitted radiation and was used in the production of an atomic weapon, excluding uranium mining and milling; and (B) is designated by the Secretary of Energy as an [AWE] for purposes of the compensation program.” Section 7384l(5) defines an AWE facility as “a facility, owned by an [AWE], that is or was used to process or produce, for use by the United States, material that emitted radiation and was used in the production of an atomic weapon, excluding uranium mining or milling.”

It has recently come to the attention of the Department that the covered facility description and the covered period for Jessop Steel Company should be amended to include the shearing of uranium metal plates on March 2, 1954, which were sent to the DOE Savannah River Site. Moreover, the description of Jessop Steel Company should be revised to delete the reference to the proposed rolling of uranium since no records indicate that this work was ever performed.

In addition, records indicate that uranium-contaminated nickel scrap metals were sent to Duriron in December 1952, which were used to produce stainless-steel piping for the Fernald plant. Accordingly, Duriron meets the definition of an AWE facility under EEOICPA and should be added to the DOE list of covered facilities.

This Notice formally makes the changes to the listing of covered facilities as indicated below:

• The covered facility description and the covered period for Jessop Steel Company are revised to include the shearing of uranium metal plates in March of 1954 and delete the reference to the proposed rolling of uranium.

• Duriron is designated as an AWE under EEOICPA and its Dayton, Ohio, location is added to the DOE list of covered facilities for the period of December 1952.

Issued in Washington, DC, on February 4, 2016.
Matthew B. Moury,
Associate Under Secretary for Environment, Health, Safety and Security.

[FR Doc. 2016-03192 Filed 2-16-16; 8:45 am]

BILLING CODE 6450-01-P